INTERNATIONAL TRADE COMMISSION

[Investigation No. 337-TA-1206]

Certain Percussive Massage Devices; Commission Determination Not to Review an Initial Determination Granting Motions To Intervene by Shenzhen Xinde Technology Co., Ltd. and Yongkang Aijiu Industrial & Trade Co., Ltd. in the Investigation

AGENCY: U.S. International Trade Commission.

ACTION: Notice.

SUMMARY: Notice is hereby given that the U.S. International Trade Commission (“Commission”) has determined not to review an initial determination (“ID”) (Order No. 11) of the presiding administrative law judge (“ALJ”), granting unopposed motions to intervene by third parties Shenzhen Xinde Technology Co., Ltd. (“Xinde”) and Yongkang Aijiu Industrial & Trade Co., Ltd. (“Aijiu”) in the above-identified investigation.

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on July 22, 2020, based on a complaint filed on behalf of Hyper Ice, Inc. (“Hyper Ice”) of Irvine, California. 85 FR 44322 (July 22, 2020). The complaint, as supplemented, alleges violations of section 337 of the Tariff Act of 1930, as amended, 19 U.S.C. 1337, in the importation into the United States, the sale for importation, or the sale within the United States after importation of certain percussive massage devices by reason of infringement of certain claims of U.S. Patent No. 10,561,574; U.S. Design Patent No. D855,822; and U.S. Design Patent No. D886,317. The complaint further alleges that a domestic industry exists. The Commission's notice of investigation named nineteen respondents. The notice of investigation also named the Office of Unfair Import Investigations (“OUII”) as a party.

On September 17, 2020, third parties Xinde and Aijiu each moved to intervene as a respondent in the investigation because they have an interest in infringement issues as to the asserted patents. Xinde and Aijiu have certified that Complainant Hyper Ice and the Respondents that have appeared in the investigation do not oppose their motions. On September 24, 2020, OUII filed a response in support of the motions.

On September 25, 2020, the ALJ issued an ID granting the motions to intervene pursuant to Commission Rule 210.19, 19 CFR 210.19. See Order No. 11 at 4 (Sep. 25, 2020). The ID finds that the motions are timely; that Xinde and Aijiu have an interest in presenting evidence that their respective percussive massage devices do not infringe the asserted patents in view of Complainant Hyper Ice's request for a general exclusion order; and that the third parties' interests are not adequately represented by existing parties. Id. No petitions for review of the ID were filed.

The Commission has determined not to review the subject ID. Xinde and Aijiu are hereby intervenors in the investigation.

The Commission vote for this determination took place on October 16, 2020.

The authority for the Commission's determination is contained in section 337 of the Tariff Act of 1930, as amended, 19 U.S.C. 1337, and in Part 210 of the Commission's Rules of Practice and Procedure, 19 CFR part 210.

By order of the Commission.
Issued: October 16, 2020.
Lisa Barton,
Secretary to the Commission.

[FR Doc. 2020-23354 Filed 10-21-20; 8:45 am]

BILLING CODE 7020-02-P